DEPARTMENT OF COMMERCE

Foreign-Trade Zones Board

[B-3-2022]

Foreign-Trade Zone (FTZ) 31—Granite City, Illinois; Authorization of Production Activity; M.M.O. Companies, Inc. (Disassembly of Firearms and Ammunition); Mascoutah, Edwardsville and Collinsville, Illinois

On February 7, 2022, America's Central Port District, grantee of FTZ 31, submitted a notification of proposed production activity to the FTZ Board on behalf of M.M.O. Companies, Inc., within Subzone 31E, in Mascoutah, Edwardsville and Collinsville, Illinois.

The notification was processed in accordance with the regulations of the FTZ Board (15 CFR part 400), including notice in the Federal Register inviting public comment (87 FR 8562-8563, February 15, 2022). On August 8, 2022, the applicant was notified of the FTZ Board's decision that no further review of the activity is warranted at this time. The production activity described in the notification was authorized, subject to the FTZ Act and the FTZ Board's regulations, including Section 400.14.

Dated: August 8, 2022.
Andrew McGilvray,
Executive Secretary.

[FR Doc. 2022-17278 Filed 8-10-22; 8:45 am]

BILLING CODE 3510-DS-P